DEPARTMENT OF COMMERCE

National Oceanic and Atmospheric Administration

[RTID 0648-XA984]

Caribbean Fishery Management Council; Public Meeting

AGENCY: National Marine Fisheries Service (NMFS), National Oceanic and Atmospheric Administration (NOAA), Commerce.

ACTION: Notice of public meeting.

SUMMARY: The Caribbean Fishery Management Council (CFMC) will hold the 173rd public meeting (virtual) to address the items contained in the tentative agenda included in the SUPPLEMENTARY INFORMATION.

DATES: The 173rd CFMC public meeting (virtual) will be held on April 27, 2021, from 9 a.m. to 5 p.m., and on April 28, 2021, from 8:45 a.m. to 3:30 p.m. The meeting will be at AST (U.S. Caribbean time, presently same as EST).

ADDRESSES: You may join the 173rd CFMC public meeting (virtual) via Zoom, from a computer, tablet or smartphone by entering the following address:

Join Zoom Meeting

https://us02web.zoom.us/j/83060685915?pwd=VmVsc1orSUtKck8xYk1XOXNDY1ErZz09

Meeting ID: 830 6068 5915

Passcode: 995658

One tap mobile

+17879451488,,83060685915#,,,,,,0#,,995658# Puerto Rico

+17879667727,,83060685915#,,,,,,0#,,995658# Puerto Rico

Dial by your location

+1 787 945 1488 Puerto Rico

+1 787 966 7727 Puerto Rico

+1 939 945 0244 Puerto Rico

Meeting ID: 830 6068 5915

Passcode: 995658

In case there are problems and we cannot reconnect via Zoom, the meeting will continue using GoToMeeting.

You can join the meeting from your computer, tablet or smartphone. https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

April 27, 2021

9 a.m.-10 a.m.

—Call to Order

—Roll Call

—Adoption of Agenda

—Consideration of 172nd Council Meeting Verbatim Transcriptions

—Executive Director's Report

—Southeast Data, Assessment, and Review (SEDAR) Update

—Southeast Fisheries Science Center (SEFSC) Update

10 a.m.-11 a.m. (15 Minutes Each Presentation)

—Scientific and Statistic Committee (SSC) Report—Richard Appeldoorn, SSC Chair

—Ecosystem-Based Fisheries Management Technical Advisory Panel (EBFMTAP) Report—Sennai Habtes, EBFMTAP Chair

—Puerto Rico Port Sampling and Catch Validation Project (August 2017-December 2019) Report—Todd Gedamke, MER Consultants, LLC

—Presentation on Regional Electronic Technologies Plan: 2020-2024—Jessica Stephen, SERO/NOAA Fisheries

11 a.m.-11:30 a.m.

—Evaluation of Marine Reserves in the U.S. Caribbean—Diana Beltrán, CFMC Contractor

11:30 a.m.-12:30 p.m.

—Island-Based Fishery Management Plans (IBFMP) Proposed Rule Status—María López-Mercer, SERO/NOAA Fisheries

—Modification to the Buoy Gear Definition for the Harvest of Managed Reef Fish, Draft Gear Amendment I to the IBFMPs—María López-Mercer, SERO/NOAA Fisheries

—Modification of Spiny Lobster Reference Points Based on Southeast Data, Assessment, and Review (SEDAR) 57 Stock Assessment, Draft Amendment Revisions—Sara Stephenson, SERO/NOAA Fisheries

12:30 p.m.-1:30 p.m.

—Lunch

1:30 p.m.-2:30 p.m.

CFMC 5-Year Strategic Plan—Michelle Duval, CFMC Contractor

2:30 p.m.-3 p.m.

—DAP Reports (10 minutes each)

—St. Thomas/St. John—Julian Magras, Chair

—Puerto Rico—Nelson Crespo, Chair

—St. Croix—Edward Schuster, Chair

3 p.m.-4 p.m.

—Listening Session of President Biden's E.O. Titled the Climate Crisis at Home and Abroad: E.O. 14008 Section 216(c)—Paul Doremus, NOAA Fisheries

4 p.m.-4:15 p.m.

—Public Comment Period (5 minutes each)

4:30 p.m.-5 p.m.

—Closed Session

—SSC and Panels Membership

April 28, 2021

8:45 a.m.-9 a.m.

—Call to Order

—Roll Call

—SSC and Panels Appointments

9 a.m.-9:30 a.m.

—Overview of the Aquaculture Opportunity Areas Initiative—Jess Beck-Stimpert, SERO/NOAA Fisheries

9:30 a.m.-9:45 a.m.

—Aquaculture Project, Parcelas Suárez, Loíza—David Miranda

9:45 a.m.-10:15 a.m.

—Outreach and Education Advisory Panel Report—Alida Ortíz, Chair

—St. Thomas/St. John Initiative

—Social Network Report—Cristina Olán, CFMC Contractor

10:15 a.m.-10:45 a.m.

—CFMC Liaison Officers Report (10 minutes each)

—St. Thomas/St. John, USVI—Nicole Greaux, Liaison Officer STT/SJ

—St. Croix, USVI—Nikita Charles, Liaison Officer STX

—Puerto Rico—Wilson Santiago, Liaison Officer PR

10:45 a.m.-11 a.m.

—Nassau Grouper Critical Habitat Designation—Jennifer Lee, SERO/NOAA Fisheries

—Queen Conch Status Review Update—Jennifer Lee, SERO/NOAA Fisheries

11 a.m.-11:30 a.m.

—Puerto Rico Coral Reef Monitoring Program and Visualization in Marine Biodiversity Observation Network—Miguel Figuerola, Coral Reef Specialist, DNER and Caricoos Contractor and Jorge R. García-Sais, Reef Research Inc., DNER Contractor

11:30 a.m.-12 p.m.

—USVI Compatible Regulations with Federal Waters—Carlos Farchette, CFMC Member

—Recreational Fishing License Program for the USVI

—Puerto Rico Electronic Data Reporting—Damaris Delgado, DNER

12 p.m.-1 p.m.

—Lunch

1 p.m.-2 p.m.

—Enforcement Reports (15 minutes each):

—Puerto Rico—DNER

—USVI—DPNR

—U.S. Coast Guard

—NOAA Fisheries/OLE

2 p.m.-3 p.m.

—Other Business

3 p.m.-3:30 p.m.

—Public Comment Period (5 minutes each)

—Next Council Meetings

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on April 27, 2021, at 9 a.m. AST, and will end on April 28, 2021, at 3:30 p.m. AST. Other than the start time on the first day of the meeting, interested parties should be aware that discussions may start earlier or later than indicated in the agenda, at the discretion of the Chair.

Special Accommodations

Simultaneous interpretation will be provided.

Se proveerá interpretación en español.

Para interpretación en español puede marcar el siguiente número para entrar a la reunión:

US/Canadá: llame al +1-888-947-3988, cuando el sistema conteste, entrar el número 1*9999996#.

For English interpretation you may dial the following number to enter the meeting:

US/Canada: call +1-888-947-3988, when the system answers enter the number 2*9999996#.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: April 7, 2021.
Tracey L. Thompson,
Acting Deputy Director, Office of Sustainable Fisheries, National Marine Fisheries Service.

[FR Doc. 2021-07414 Filed 4-9-21; 8:45 am]

BILLING CODE 3510-22-P